ENVIRONMENTAL PROTECTION AGENCY

[EPA-HQ-OPP-2009-0332; FRL-9343-2]

Rescission of Previously Issued Cancellation Order for Methyl Parathion Product Registration

AGENCY: Environmental Protection Agency (EPA).

ACTION: Notice.

SUMMARY: This notice rescinds a previously issued Cancellation Order, printed in the Federal Register on December 28, 2011, to the extent it is applicable to one methyl parathion product. The product in question, EPA Registration Number 070506-00193, was previously cancelled under a separate Cancellation Order published in the Federal Register on July 27, 2010. The July 27, 2010 order correctly identifies the effective date of cancellation for the affected product registration as well as the correct dates associated with the disposition of existing stocks. This rescission only applies to the methyl parathion registration. All other product registrations for all other chemicals that were included in the December 28, 2011 cancellation order remain in effect and are not otherwise affected by this action.

DATES: The cancellation of the methyl parathion product at issue is effective December 31, 2012 as provided by the July 27, 2010 Cancellation Order.

FOR FURTHER INFORMATION CONTACT: Kelly Ballard, Pesticide Re-evaluation Division (7508P), Office of Pesticide Programs, Environmental Protection Agency, 1200 Pennsylvania Ave. NW., Washington, DC 20460-0001; telephone number: (703) 305-8126; fax number: (703) 305-5290; email address: ballard.kelly@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How can I get copies of this document and other related information?

EPA has established a docket for this action under docket identification (ID) number EPA-HQ-OPP-2009-0332. Publicly available docket materials are available either in the electronic docket at http://www.regulations.gov, or, if only available in hard copy, by appointment at One Potomac Yard (South Bldg.), 2777 S. Crystal Dr., Arlington, VA, between 9 a.m. and 3 p.m., Monday through Friday, excluding legal holidays. To schedule an appointment, call (703) 305-5805.

II. What action is the agency taking?

EPA is rescinding a recently issued Cancellation Order, a December 28, 2011 Federal Register Notice (76 FR 81496) to the extent it is applicable to one methyl parathion product. On December 28, 2011 EPA issued a batch order cancelling products for failure to pay maintenance fees. The list of products in Table 2 inadvertently contained the methyl parathion product, EPA Registration Number 070506-00193, Penncap-M Microencapsulated Insecticide. However, this methyl parathion product was previously cancelled under a separate Cancellation Order printed in the Federal Register of July 27, 2010 (75 FR 43981), in relation to a Memorandum of Agreement where all methyl parathion products were voluntarily cancelled by the registrants. The July 27, 2010 order correctly identifies the effective date of cancellation for the affected product registration as well as the correct dates associated with the disposition of existing stocks. The cancellation order for the methyl parathion product, issued in the Federal Register on December 28, 2011 is rescinded. The rescission only applies to the methyl parathion registration, EPA Registration Number 070506-00193. The December 28, 2011 cancellation order remains in full force and effect with respect to all other product registrations and chemicals contained in those cancellation orders.

List of Subjects

Environmental protection, Pesticides and pests.

Dated: March 21, 2012.
Richard P. Keigwin, Jr.,
Director, Pesticide Re-evaluation Division, Office of Pesticide Programs.

[FR Doc. 2012-7444 Filed 3-27-12; 8:45 am]

BILLING CODE 6560-50-P